DEPARTMENT OF DEFENSE

Negotiation of a Reciprocal Defense Procurement Memorandum of Understanding With the Czech Republic

AGENCY: Department of Defense (DoD).

ACTION: Request for public comments.

SUMMARY: DoD is contemplating a Reciprocal Defense Procurement Memorandum of Understanding with the Czech Republic. DoD is requesting industry feedback regarding its experience in public defense procurements conducted by or on behalf of the Czech Republic Ministry of Defense or Armed Forces.

DATES: Comments must be received by February 18, 2010.

ADDRESSES: Submit comments to the Director, Defense Procurement and Acquisition Policy, 3060 Defense Pentagon, Room 3B855, Attn: Ms. Susan Hildner, Washington, DC 20301-3060; or by e-mail to emily.clarke@osd.mil.

FOR FURTHER INFORMATION CONTACT: Ms. Emily Clarke, OUSD(AT&L), Director, Defense Procurement and Acquisition Policy, Contract Policy and International Contracting; Room 5E621, 3060 Defense Pentagon, Washington, DC 20301-3060; telephone (703) 697-9351.

SUPPLEMENTARY INFORMATION: The Reciprocal Defense Procurement Memorandums of Understanding (RDP MOU)s that DoD has with 21 “qualifying” countries are signed at the level of the Secretary of Defense and his counterpart. The purpose of RDP MOUs is to promote rationalization, standardization, and interoperability of conventional defense equipment with allies and friendly governments. These MOUs provide a framework for ongoing communication regarding market access and procurement matters that affect effective defense cooperation.

RDP MOUs generally include language by which the parties agree that their defense procurements will be conducted in accordance with certain implementing procedures. These procedures relate to—

• Publication of notices of proposed purchases;

• The content and availability of solicitations for proposed purchases;

• Notification to each unsuccessful offeror;

• Feedback, upon request, to unsuccessful offerors concerning the reasons they were not allowed to participate in a procurement or were not awarded a contract; and

• Providing for the hearing and review of complaints arising in connection with any phase of the procurement process to ensure that, to the extent possible, complaints are equitably and expeditiously resolved.

Based on the MOU, each country affords the other certain benefits on a reciprocal basis consistent with national laws and regulations. The benefits that the United States accords to the products of qualifying countries include—

• Offers of qualifying country end products are evaluated without applying the price differentials otherwise required by the Buy American Act and the Balance of Payments Program;

• The chemical warfare protection clothing restrictions in 10 U.S.C. 2533a and the specialty metals restriction in 10 U.S.C. 2533b do not apply to products manufactured in a qualifying country; and

• Customs, taxes, and duties are waived for qualifying country end products and components.

If DoD signs an RDP MOU with the Czech Republic, the Czech Republic would be listed as one of the “qualifying countries” in the definition of “qualifying country” at DFARS 225.003 and offers of products of the Czech Republic or that contain components from the Czech Republic would be afforded the benefits available to all qualifying countries. This also means that U.S. products would be exempt from any analogous “Buy Czech Republic” and “Buy European Union” laws or policies applicable to procurements by the Czech Republic Ministry of Defense or Armed Forces.

While DoD is evaluating the Czech Republic's laws and regulations in this area, DoD would benefit from U.S. industry's experience in participating in the Czech Republic's public defense procurements. DoD is, therefore, asking U.S. firms that have participated or attempted to participate in procurements by or on behalf of the Czech Republic's Ministry of Defense or Armed Forces to let us know if the procurements were conducted in accordance with published procedures with transparency, integrity, fairness, and due process, and if not, the nature of the problems encountered.

DoD is also interested in comments relating to the degree of reciprocity that exists between the U.S. and the Czech Republic when it comes to the openness of defense procurements to offers of products from the other country.

Amy G. Williams,
Editor, Defense Acquisition Regulations System.

[FR Doc. 2010-901 Filed 1-15-10; 8:45 am]

BILLING CODE 5001-08-P